DEPARTMENT OF ENERGY

Federal Energy Regulatory Commission

[Project No. 13880-000]

Cuffs Run Pumped Storage, LLC; Notice of Preliminary Permit Application Accepted for Filing and Soliciting Comments, Motions To Intervene, and Competing Applications

On November 18, 2010, Cuffs Run Pumped Storage, LLC filed an application for a preliminary permit, pursuant to section 4(f) of the Federal Power Act, proposing to study the feasibility of the Cuffs Run Pumped Storage Project, located on Cuffs Run and the Susquehanna River, near Craley Township, in York and Lancaster Counties, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) A new 9,800-foot-long, 225-foot-high earthen dam across Cuffs Run and an unnamed stream forming an upper reservoir that would have an estimated total usable storage capacity of 25,000 acre-feet and a normal maximum surface elevation of 680 feet mean sea level (msl); (2) a new 700-foot-long, 95-foot-high dike across the eastern side of Cuffs Run and a new 1,300-foot-long, 35-foot-high dike across the western end of the upper reservoir; (3) a new 300-foot-long, 110-foot-wide channel in the upper reservoir leading to a submerged intake; (4) a new 1,500-foot-long, 45-foot-diameter concrete-lined penstock splitting into three 20-foot-diameter steel-lined penstocks at the powerhouse; (5) a new underground powerhouse with approximate dimensions of 200 feet long by 150 feet wide, with an 18-foot-diameter vent and cable shaft through the top, and containing three Francis reversible pump turbines rated at approximately 330 megawatts (MW) each; (6) a new tailrace composed of three concrete-lined tunnels; (7) an existing lower reservoir (Lake Clarke) having a usable storage capacity of 68,870 acre-feet and a normal pool elevation of 228 feet msl; (8) a new porous dike that separates the outlet structures from Lake Clarke; (9) a new 3-mile-long, 500-kilovolt (kV) transmission line that would interconnect to a 250-kV transmission line owned by PJM; and (10) appurtenant facilities. The estimated annual generation of the Cuffs Run Pumped Storage Project would be 1,750 gigawatt-hours.

Applicant Contact: Ramya Swaminathan, 33 Commercial Street, Gloucester, MA, 01930; phone: (978) 226-1531.

FERC Contact: Timothy Konnert, (202) 502-6359.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13880-000) in the docket number field to access the document. For assistance, contact FERC Online Support.

Dated: February 18, 2011.
Kimberly D. Bose,
Secretary.

[FR Doc. 2011-4258 Filed 2-24-11; 8:45 am]

BILLING CODE 6717-01-P